DEPARTMENT OF HOMELAND SECURITY

Coast Guard

[Docket No. USCG-2010-0212]

Interagency Coordinating Committee on Oil Pollution Research (ICCOPR); Public Meeting

AGENCY: Coast Guard, DHS.

ACTION: Notice of meeting.

SUMMARY: The Interagency Coordinating Committee on Oil Pollution Research (ICCOPR) will hold a public meeting in Washington, DC to hear comments on the priorities of oil pollution research, including projects related to the Deepwater Horizon incident and the Arctic environment. This meeting is designed to give the public an opportunity to provide statements as to where the ICCOPR, a Federally mandated committee, should focus their efforts concerning oil pollution research. Public comment will then be used to augment the revision of the 1997 Oil Pollution Research and Technology Plan. This meeting will be open to the public.

DATES: The Committee will meet on Thursday, September 16, 2010, from 9 a.m. to 2 p.m. This meeting may close early if all business is finished. Written material (no more than 2 full pages) and requests to make brief oral presentations should reach the Coast Guard on or before September 9, 2010. Requests to have a copy of your material (no more than 2 full pages) distributed to each member of the committee should reach the Coast Guard on or before September 9, 2010.

ADDRESSES: The Committee will meet in the Elihu Root Auditorium at the Carnegie Institution for Science, 1530 P Street, NW., Washington, DC 20005-1910. Send written material (no more than 2 full pages) and requests to make brief oral presentations to Lieutenant Tracy Wirth, Assistant to the Chairman of the ICCOPR at Commandant (CG-533), Office of Incident Management and Preparedness, U.S. Coast Guard, 2100 2nd St., SW., STOP 7363, Washington, DC 20593-7363. The ICCOPR staff can also be contacted via e-mail at ICCOPR_staff@uscg.mil. This notice and documents identified in the Supplementary Information section as being available in the docket, may be viewed in our online docket, USCG-2010-0212, at http://www.regulations.gov.

If you do not have access to the internet, you may view the docket online by visiting the Docket Management Facility in Room W12-40 on the ground floor of the Department of Transportation West Building, 1200 New Jersey Avenue, SE., Washington, DC 20590, between 9 a.m. and 5 p.m., Monday through Friday, except Federal holidays. We have an agreement with the Department of Transportation to use the Docket Management Facility.

FOR FURTHER INFORMATION CONTACT: If you have questions on this notice or the meeting, contact Lieutenant Tracy Wirth, Assistant to the Chairman of the ICCOPR, telephone 202-372-2236 or via e-mail at ICCOPR_staff@uscg.mil.

If you have questions on viewing the docket, call Renee V. Wright, Program Manager, Docket Operations, telephone 202-366-9826.

SUPPLEMENTARY INFORMATION:

Background and Purpose

Section 7001(a) of the Oil Pollution Act of 1990 (OPA 90) established the Interagency Coordinating Committee on Oil Pollution Research. The purpose of the Interagency Committee is twofold: (1) To prepare a comprehensive, coordinated Federal oil pollution research and development (R&D) plan; and (2) to promote cooperation with industry, universities, research institutions, state governments, and other nations through information sharing, coordinated planning, and joint funding of projects. The Interagency Committee was commissioned with 13 members and is chaired by the Coast Guard. Membership includes:

—National Oceanic and Atmospheric Administration (NOAA)

—National Institute of Standards and Technology (NIST)

—Department of Energy (DOE)

—Bureau of Ocean Energy Management, Regulation, and Enforcement (BOEMRE)—formally known as Minerals Management Service (MMS)

—United States Fish and Wildlife Service (USFWS)

—Maritime Administration (MARAD)

—Pipeline and Hazardous Materials Safety Administration (PHMSA)

—United States Army Corps of Engineers (USACE) —United States Navy (USN)

—Environmental Protection Agency (EPA)

—National Aeronautics and Space Administration (NASA)

—United States Coast Guard (USCG)

—Federal Emergency Management Agency (FEMA), and

—United States Fire Administration (USFA)

Section 7001(b) of the Oil Pollution Act of 1990 required the Interagency Committee to prepare an Oil Pollution Research and Technology Plan. The Interagency Committee prepared the original Oil Pollution Research and Development (R&D) Technology Plan to define the roles of each Federal agency involved in oil spill research and development. The plan was submitted to Congress in April 1992 and later reviewed by the National Research Council's Committee on Oil Spill Research and Development under the auspices of the Marine Board. Using input from the Marine Board, the Committee revised the plan in May 1993 to address spill prevention, human factors, and the field testing/demonstration of developed response technologies. The current version of the plan, still based on Marine Board recommendations, is dated April 1997. The Interagency Committee is coordinating an update of the Technology Plan during the next two fiscal years.

The Committee previously met on May 19, 2010.

Tentative Meeting Agenda

The agenda for the September 16, 2010, Committee meeting is as follows:

(1) 9 a.m.: Convene: Welcome and Opening Comments by the ICCOPR Chairman; Captain Anthony S. Lloyd, U.S. Coast Guard

(2) 9:15 a.m.: ICCOPR Background and Overview Brief

(3) 9:45 a.m.: Public Comment Period

(4) 1:45 p.m.: Closing Remarks: Captain Anthony S. Lloyd, U.S. Coast Guard, Chairman

(5) 2 p.m.: Adjourn

ICCOPR Biennial Report

The Interagency Coordinating Committee on Oil Pollution Research Biennial Report for Fiscal Years 2008 and 2009 and the 1997 Oil Pollution Research and Technology Plan documents, which will be discussed by the Committee, may be viewed in our online docket. Go to http://www.regulations.gov, enter the docket number for this notice (USCG-2010-0212) in the “Keyword” box, and then click “Search.”

Procedural

This meeting is open to the public. Please note that the meeting may close early if all business is finished. At the Chair's discretion, members of the public may make brief oral presentations during the meeting. If you would like to make an oral presentation at a meeting, please notify the Assistant to the Chairman no later than September 9, 2010. Written material (no more than 2 full pages) for distribution at a meeting should reach the Coast Guard no later than September 9, 2010. If you would like a copy of your material (no more than 2 full pages) distributed to each member of the committee in advance of a meeting, please submit 25 copies to the Assistant to the Chairman no later than September 9, 2010.

The transcript of the meeting, including all comments received during the meeting, will be posted to http://www.regulations.gov and will include any personal information you have provided. You may review a Privacy Act notice regarding our public dockets in the January 17, 2008, issue of the Federal Register (73 FR 3316).

Information on Services for Individuals With Disabilities

For information on facilities or services for individuals with disabilities or to request special assistance at the meeting, contact the Chairman as soon as possible.

Authority

This notice is issued under authority of 5 U.S.C. 552(a).

Dated: August 15, 2010.
A.S. Lloyd,
Captain, U.S. Coast Guard, Chief, Office of Incident Management & Preparedness.

[FR Doc. 2010-20735 Filed 8-19-10; 8:45 am]

BILLING CODE 9110-04-P